NATIONAL SCIENCE FOUNDATION

Advisory Committee for Environmental Research and Education; Notice of Meeting

In accordance with the Federal Advisory Committee Act (Pub. L. 92-463, as amended), the National Science Foundation (NSF) announces the following meeting:

Name and Committee Code: Advisory Committee for Environmental Research and Education (9487) (Videoconference).

Date and Time: June 5, 2020; 10:00 a.m.-5:30 p.m. EDT.

Place: NSF, 2415 Eisenhower Avenue, Alexandria, VA 22314 (Videoconference).

Interested parties can register to join via teleconference at: https://nsf.zoomgov.com/meeting/register/vJItdu2vqj8pGjEhsVjujerdE2GOUPEthdo, Closed Caption will be available at: https://www.captionedtext.com/client/event.aspx?EventID=4441013&CustomerID=321.

Type of Meeting: Open.

Contact Person: Dr. Brandi Schottel, Staff Associate, Office of Integrative Activities/Office of the Director/National Science Foundation, 2415 Eisenhower Avenue, Alexandria, VA 22314; Email: bschotte@nsf.gov/Telephone: (703) 292-4798.

Minutes: May be obtained from the AC's website at: https://www.nsf.gov/ere/ereweb/minutes.jsp.

Purpose of Meeting: To provide advice, recommendations, and oversight concerning support for environmental research and education.

Agenda: To discuss subcommittee work and prepare for future advisory committee activities. Updated agenda will be available at https://www.nsf.gov/ere/ereweb/minutes.jsp.

Dated: May 6, 2020.
Crystal Robinson,
Committee Management Officer.

[FR Doc. 2020-10067 Filed 5-11-20; 8:45 am]

BILLING CODE 7555-01-P